DEPARTMENT OF HEALTH AND HUMAN SERVICES

Centers for Medicare & Medicaid Services

[Document Identifier: CMS-10398 #85]

Medicaid and Children's Health Insurance Program (CHIP) Generic Information Collection Activities: Proposed Collection; Comment Request

AGENCY: Centers for Medicare & Medicaid Services (CMS), Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by December 2, 2024.

ADDRESSES: When commenting, please reference the applicable form number (CMS-10398 #85) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10398 #85/OMB control number: 0938-1148, Room C4-26-05, 7500 Security Boulevard, Baltimore, Maryland 21244-1850.

To obtain copies of a supporting statement and any related forms for the proposed collection(s) summarized in this notice, please access the CMS PRA website by copying and pasting the following web address into your web browser: https://www.cms.gov/medicare/regulations-guidance/legislation/paperwork-reduction-act-1995/pra-listing.

FOR FURTHER INFORMATION CONTACT: William N. Parham at 410-786-4669.

SUPPLEMENTARY INFORMATION: Following is a summary of the use and burden associated with the subject information collection(s). More detailed information can be found in the collection's supporting statement and associated materials (see ADDRESSES).

Generic Information Collection

1. Title of Information Collection: 3.1-M State Plan Amendment (SPA) Templates for Eligible Juveniles Who are Inmates of a Public Institution; Type of Information Collection Request: New information collection request information request; Use: Section 5121 of the Consolidated Appropriation Act of 2023 (CAA, 2023) creates a new mandate for states by amending section 1902(a)(84) of the Social Security Act (the Act) (42 U.S.C. 1396a) to require states to provide specific screening and diagnostic services and targeted case management (including referrals) in the 30 days prior to release from incarceration, and targeted case management (TCM) (including referrals) for at least 30 days post release for eligible juveniles who are inmates of a public institution, post adjudication. The requirements are effective January 1, 2025.

To comply with the amendments states must submit a Medicaid SPA attesting that the state has developed an internal operation plan, and in accordance with such plan, will provide coverage during the statutory pre- and post-release period of screening, diagnostic, and TCM services for eligible juveniles who are within 30 days of release post adjudication.

States have the option to lift the Medicaid inmate payment and CHIP eligibility exclusions and provide coverage of pre-release Medicaid and CHIP services (for electing states) and makes available federal matching funds for the full breadth of Medicaid and CHIP benefits to eligible juveniles who are incarcerated and pending disposition of charges. States selecting this state plan option must provide to eligible juveniles all mandatory and optional services to which they are otherwise entitled under the state plan. During the period when an eligible juvenile is incarcerated and pending disposition of charges, this is essentially a full lifting of the Medicaid inmate payment exclusion and CHIP eligibility exclusion. States cannot choose to provide a limited array of state plan services under this option. An operational plan is not required for this state option.

For states that wish to elect the option in section 5122 of the CAA, 2023, states should submit a SPA attesting to CMS that they are also electing coverage for any Medicaid or CHIP state plan services for eligible juveniles pending disposition of charges to which the beneficiary would otherwise be entitled, if not for their incarceration status.

Form Number: CMS-10398 #85 (OMB control number: 0938-1148); Frequency: Once and on occasion; Affected Public: State, Local, or Tribal Governments; Number of Respondents: 56; Total Annual Responses: 168; Total Annual Hours: 4,872. (For policy questions regarding this collection contact: Marlana Thieler at 410-786-6274.)

William N. Parham, III,
Director, Division of Information Collections and Regulatory Impacts, Office of Strategic Operations and Regulatory Affairs.

[FR Doc. 2024-26713 Filed 11-15-24; 8:45 am]

BILLING CODE 4120-01-P